ENVIRONMENTAL PROTECTION AGENCY

[FRL-9831-3; 10-2009-0193]

Proposed CERCLA Administrative Cost Recovery Settlement; Double H Pesticide Burial Site

AGENCY: Environmental Protection Agency (EPA).

ACTION: Notice; request for public comment.

SUMMARY: In accordance with Section 122(i) of the Comprehensive Environmental Response, Compensation, and Liability Act, as amended (CERCLA), notice is hereby given of a proposed administrative settlement for recovery of response costs incurred for the Double H Pesticide Burial Site in Grandview, Yakima County, Washington. Under this proposed settlement, the settling parties are Double H, L.P.; James T. Hansen; Linda L. Hansen; George W. Higgins; and Edith M. Higgins. The proposed settlement requires the settling parties to pay $370,256.98 to the EPA Hazardous Substance Superfund. Upon payment of this sum to EPA, the settling parties will be released from all other obligations for payments to EPA as well as requirements for maintaining insurance and financial assurance established under an Administrative Settlement Agreement and Order on Consent (“ASAOC”), CERCLA Docket No. 10-2009-0193, signed between the settling parties and the EPA in 2009.

For 30 days following the date of publication of this notice, the EPA will receive written comments relating to the proposed settlement. The EPA will consider all comments received and may modify or withdraw its consent to the settlement if comments received disclose facts or considerations which indicate that the settlement is inappropriate, improper, or inadequate. The EPA's response to any comments received will be available for public inspection at the U.S. EPA Region 10 Office, located at 1200 Sixth Avenue, Seattle, Washington 98101.

DATES: Comments must be submitted on or before August 7, 2013.

ADDRESSES: The proposed settlement is available for public inspection at the U.S. EPA Region 10 Office, located at 1200 Sixth Avenue, Seattle, Washington 98101. A copy of the proposed settlement may be obtained from Candace Smith, Regional Hearing Clerk, U.S. EPA Region 10, 1200 Sixth Avenue, Suite 900, Mail Stop ORC-158, Seattle, Washington 98101. Comments should reference the Double H Pesticide Burial Site, CERCLA Docket No. 10-2009-0193, and should be addressed to Clifford J. Villa, Assistant Regional Counsel, U.S. EPA Region 10, Mail Stop ORC-158, 1200 Sixth Avenue, Suite 900, Seattle, Washington 98101.

FOR FURTHER INFORMATION CONTACT: Clifford J. Villa, Assistant Regional Counsel, U.S. EPA Region 10, Mail Stop ORC-158, 1200 Sixth Avenue, Suite 900, Seattle, Washington 98101; (206) 553-1185.

SUPPLEMENTARY INFORMATION: The Double H Pesticide Burial Site is located near Grandview, Yakima County, Washington. The site was the location of unpermitted disposal of pesticide containers and other hazardous substances. Consistent with the terms of the ASAOC, the settling parties conducted an action in 2009 to remove contaminated materials from this site for proper disposal. Work under the ASAOC was conducted subject to EPA oversight. By notice dated January 10, 2011, EPA confirmed the completion of the required work at the Site. As provided by the ASAOC, EPA subsequently submitted a bill to settling parties for reimbursement of EPA's costs for oversight and related expenses at the Site. The total amount of this bill, dated January 15, 2013, was $545,315.59. Of this amount, settling parties paid $73,459.42, and invoked dispute resolution over the remaining costs totaling $472,153.75. After the reviewing the activities comprising these disputed costs, and considering other factors, EPA and the settling parties propose to settle this dispute through a final payment of $370,256.98. Upon payment of this sum to EPA, the settling parties will be released from all other obligations for payments to EPA as well as requirements under the ASAOC for maintaining insurance and financial assurance. Other provisions of the ASAOC, including Section XIX (Covenant Not To Sue By EPA), Section XX (Reservations of Rights By EPA), and Section XXI (Covenant Not To Sue By Respondents) will remain subject to their original terms.

Dated: June 27, 2013.
Chris D. Field,
Manager, Emergency Management Program, U.S. EPA Region 10.

[FR Doc. 2013-16348 Filed 7-5-13; 8:45 am]

BILLING CODE 6560-50-P